DEPARTMENT OF HEALTH AND HUMAN SERVICES

Centers for Disease Control and Prevention

[Docket Number NIOSH 161-A]

Draft Current Intelligence Bulletin “Occupational Exposure to Carbon Nanotubes and Nanofibers”

AGENCY: National Institute for Occupational Safety and Health (NIOSH) of the Centers for Disease Control and Prevention (CDC), Department of Health and Human Services (HHS).

ACTION: Notice of public meeting and availability of draft document for public comment.

SUMMARY: On Wednesday, April 8, 2009 [74 FR 15985], the National Institute for Occupational Safety and Health (NIOSH) of the Centers for Disease Control and Prevention (CDC), announced in the Federal Register plans to evaluate the scientific data on carbon nanotubes and to issue its findings on the potential health risks. A draft Current Intelligence Bulletin entitled “Occupational Exposure to Carbon Nanotubes and Nanofibers” has been developed which contains an assessment of the toxicological data and provides recommendations for the safe handling of these materials. NIOSH is seeking comments on the draft document and plans to have a public meeting to discuss the document. The draft document and instructions for submitting comments can be found at http://www.cdc.gov/niosh/docket/review/docket161A/default.html. This guidance publication does not have the force or effect of the law.

Public Comment Period: Comments must be received by February 18, 2011.

Public Meeting Time and Date: 9 a.m.-4 p.m., February 3, 2011.

Place: Millennium Hotel Cincinnati, Grand Ballroom A, 150 West 5th Street, Cincinnati, OH 45202.

Purpose of Meeting: To discuss and obtain comments on the draft document, “Occupational Exposure to Carbon Nanotubes and Nanofibers”. Special emphasis will be placed on discussion of the following:

(1) Whether the hazard identification, risk estimation, and discussion of health effects for carbon nanotubes and nanofibers are a reasonable reflection of the current understanding of the evidence in the scientific literature;

(2) Workplaces and occupations where exposure to carbon nanotubes and nanofibers occur;

(3) Current strategies for controlling occupational exposure to carbon nanotubes and nanofibers (e.g., engineering controls, work practices, personal protective equipment;

(4) Current exposure measurement methods and challenges in measuring workplace exposures to carbon nanotubes and nanofibers;

(5) Areas for future collaborative efforts (e.g., research, communication, development of exposure measurement and control strategies).

Status: The forum will include scientists and representatives from various government agencies, industry, labor, and other stakeholders, and is open to the public. Attendance is limited only by the space available. The meeting room accommodates 100 people. Interested parties should contact the NIOSH Docket Office at nioshdocket@cdc.gov, (513) 533-8611, or fax (513) 533-8285, for information about how to register for the meeting. Due to limited space, notification of intent to attend the meeting must be made to the NIOSH Docket Office no later than January 28, 2011. Priority for attendance will be given to those providing oral comments. Other requests to attend the meeting will then be accommodated on a first-come basis.

Persons wanting to provide oral comments will be permitted 15 minutes. If additional time becomes available, presenters will be notified. All requests to present should contain the name, address, telephone number, and relevant business affiliations of the presenter, topic of the presentation, and the approximate time requested for the presentation. Oral comments made at the public meeting must also be submitted to the NIOSH Docket Office in writing in order to be considered by the Agency.

Request for Information: NIOSH seeks to obtain materials, including published and unpublished reports and research findings, to evaluate the possible health risks of occupational exposure to carbon nanotubes and nanofibers. Examples of requested information include, but are not to be limited to:

(1) Identification of industries or occupations in which exposures to carbon nanotubes and nanofibers can occur;

(2) Trends in the production and use of carbon nanotubes and nanofibers;

(3) Exposure measurement data;

(4) Case reports or other health information demonstrating possible health effects in workers exposed to carbon nanotubes or nanofibers;

(5) Reports of experimental in vivo and in vitro studies that provide evidence of a dose-relationship between exposure to carbon nanotubes and nanofibers and biological activity;

(6) Reports of experimental data on the airborne characteristics of carbon nanotubes or nanofibers, including information on the amounts that are inhalable and respirable;

(7) Criteria and rationale for including workers in a medical surveillance and screening program;

(8) Description of work practices and engineering controls used to reduce or prevent workplace exposure to carbon nanotubes and nanofibers; and

(9) Educational materials for worker safety and training on the safe handling of carbon nanotubes and nanofibers.

ADDRESSES: Written comments or requests to attend or present at the meeting, identified by docket number NIOSH-161-A, may be submitted by any of the following ways:

• Mail: NIOSH Docket Office, Robert A. Taft Laboratories, MS-C34, 4676 Columbia Parkway, Cincinnati, OH 45226.

• Facsimile: (513) 533-8285.

• E-mail: nioshdocket@cdc.gov.

All information received in response to this notice will be available for public examination and copying at the NIOSH Docket Office, 4676 Columbia Parkway, Room 111, Cincinnati, OH 45226. A complete electronic docket containing all comments submitted will be available on the NIOSH Web page at http://www.cdc.gov/niosh/docket, and comments will be available in writing by request. NIOSH includes all comments received without change in the docket, including any personal information provided. All electronic comments should be formatted as Microsoft Word. Please make reference to docket number NIOSH 161-A.

FOR FURTHER INFORMATION CONTACT: Ralph D. Zumwalde, NIOSH, Robert A. Taft Laboratories MS-C32, 4676 Columbia Parkway, Cincinnati, OH 45226, telephone (513) 533-8320.

Dated: December 13, 2010.
Tanja Popovic,
Deputy Associate Director for Science, Centers for Disease Control and Prevention.

[FR Doc. 2010-32328 Filed 12-22-10; 8:45 am]

BILLING CODE 4163-19-P